DEPARTMENT OF ENERGY

Federal Energy Regulatory Commission

[Docket No. RP03-213-000]

Gulf South Pipeline Company, LP; Notice of Proposed Changes in FERC Gas Tariff

December 26, 2002.

Take notice that on December 20, 2002, Gulf South Pipeline Company, LP (Gulf South) tendered for filing as part of its FERC Gas Tariff, Sixth Revised Volume No. 1, the following tariff sheets, to become effective January 19, 2003.

Second Revised Sheet No. 1

Third Revised Sheet No. 2

First Revised Sheet No. 25

First Revised Sheet No. 303

Second Revised Sheet No. 400

First Revised Sheet No. 401

First Revised Sheet No. 402

First Revised Sheet No. 403

Second Revised Sheet No. 404

Second Revised Sheet No. 405

Sheet Nos. 406-449

Sheet Nos. 456-499

Third Revised Sheet No. 502

First Revised Sheet No. 504

Original Sheet No. 1417

Original Sheet No. 1418

Original Sheet No. 1419

Original Sheet No. 1420

Original Sheet No. 1421

Sheet Nos. 1422-1499

Second Revised Sheet No. 1905

Second Revised Sheet No. 2002

Third Revised Sheet No. 2701

Fourth Revised Sheet No. 2702

Fourth Revised Sheet No. 3613

Second Revised Sheet No. 3705

Third Revised Sheet No. 3706

Second Revised Sheet No. 4010

Third Revised Sheet No. 4400

Gulf South states that it is proposing to modify various aspects of its tariff to recognize that firm storage services will be offered at both its Bistineau and Magnolia storage facilities. In addition, Gulf South states that it is proposing to establish guidelines under which the initial Magnolia firm storage capacity will be sold and additional auction procedures that will be followed by Gulf South to market available firm storage capacity from Magnolia after August 1, 2003 and Bistineau that is not subject to contractual right of first refusal.

Gulf South states that copies of this filing have been served upon Gulf South's customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: January 2, 2003.
Linwood A. Watson, Jr.,
Deputy Secretary.

[FR Doc. 02-33067 Filed 12-31-02; 8:45 am]

BILLING CODE 6717-01-P